FEDERAL MARITIME COMMISSION

Notice of Request for Addditional Information

The Commission gives notice that it has formally requested that the parties to the below listed agreement provide additional information pursuant to 46 U.S.C. 40304(d). This action prevents the agreement from becoming effective as originally scheduled.

Agreement No.: 201199.

Title: Port Fee Services Agreement.

Parties: The members of the West Coast MTO Agreement; The City of Los Angeles, acting by and through its Board of Harbor Commissioners; and the City of Long Beach, acting by and through its Board of Harbor Commissioners.

Interested parties will have fifteen (15) days after publication of the notice to file further comments on the agreement.

By Order of the Federal Maritime Commission.
Dated: December 18, 2008.
Karen V. Gregory,
Secretary.

[FR Doc. E8-30633 Filed 12-23-08; 8:45 am]

BILLING CODE 6730-01-P